DEPARTMENT OF THE INTERIOR

Bureau of Indian Affairs

[189A2100DD/AAKC001030/A0A51010.999900]

Proclaiming Certain Lands as Reservation for the Bois Forte Band of the Minnesota Chippewa Tribe of Minnesota

AGENCY: Bureau of Indian Affairs, Interior.

ACTION: Notice of Reservation Proclamation.

SUMMARY: This notice informs the public that the Acting Assistant Secretary—Indian Affairs proclaimed approximately 1,146.17 acres, more or less, an addition to the reservation of the Bois Forte Band of the Minnesota Chippewa Tribe of Minnesota on July 9, 2018.

FOR FURTHER INFORMATION CONTACT: Ms. Sharlene M. Round Face, Bureau of Indian Affairs, Division of Real Estate Services, 1849 C Street NW, MS-4642-MIB, Washington, DC 20240, telephone (202) 208-3615.

SUPPLEMENTARY INFORMATION: This notice is published in the exercise of authority delegated by the Secretary of the Interior to the Assistant Secretary—Indian Affairs by part 209 of the Departmental Manual.

A proclamation was issued according to the Act of June 18, 1934 (48 Stat. 984; 25 U.S.C. 5110), for the land described below. The land was proclaimed to be an addition to the reservation of the Bois Forte Band of the Minnesota Chippewa Tribe, Saint Louis County, State of Minnesota.

Reservation for the Bois Forte Band of the Minnesota Chippewa Tribe

23 Contiguous Parcels

Principal Meridian

Saint Louis County, State of Minnesota

Legal Description Containing 1,146.17 Acres, More or Less

Parcel 1: NW¼ NW¼, Section 34, Township 62N, Range 16W, 4th Principal Meridian (40 acres)

Parcel 2: That portion of the Westerly 100 ft. of the Easterly 600 ft. of Government Lot 2, Section 22, Township 62N, Range 16W, 4th Principal Meridian, lying South of County Highway 414 (0.92 acres)

Parcel 3: SE¼ NE¼, Section 33, Township 62N, Range 16W, 4th Principal Meridian (40 acres)

Parcel 4: N½ SE¼, Section 27, Township 62N, Range 16W, 4th Principal Meridian (80 acres)

Parcel 5: N½ SW¼, Section 27, Township 62N, Range 16W, 4th Principal Meridian (80 acres)

Parcel 6: NE¼ NE¼, Section 28, Township 62N, Range 16W, 4th Principal Meridian (40 acres)

Parcel 7: SE¼ NE¼, Section 28, Township 62N, Range 16W, 4th Principal Meridian (40 acres)

Parcel 8: S½ SW¼, Section 27, Township 62N, Range 16W, 4th Principal Meridian (80 acres)

Parcel 9: Government Lot 1, Section 27, Township 62N, Range 16W, 4th Principal Meridian (25.25 acres)

Parcel 10: S½ SE¼, Section 27, Township 62N, Range 16W, 4th Principal Meridian (80 acres)

Parcel 11: W½ SE¼, Section 22, Township 62N, Range 16W, 4th Principal Meridian (80 acres)

Parcel 12: SW¼ NW¼, Section 27, Township 62N, Range 16W, 4th Principal Meridian (40 acres)

Parcel 13: NE¼ NW¼, Section 27, Township 62N, Range 16W, 4th Principal Meridian (40 acres)

Parcel 14: W½ NE¼, Section 27, Township 62N, Range 16W, 4th Principal Meridian (80 acres)

Parcel 15: SE¼ NW¼, Section 27, Township 62N, Range 16W, 4th Principal Meridian (40 acres)

Parcel 16: S½ SW¼, Section 22, Township 62N, Range 16W, 4th Principal Meridian (80 acres)

Parcel 17: NW¼ NE¼, Section 34, Township 62N, Range 16W, 4th Principal Meridian (40 acres)

Parcel 18: SE¼ NE¼, Section 34, Township 62N, Range 16W, 4th Principal Meridian (40 acres)

Parcel 19: NE¼ NW¼, Section 34, Township 62N, Range 16W, 4th Principal Meridian (40 acres)

Parcel 20: NE¼ NE¼, Section 34, Township 62N, Range 16W, 4th Principal Meridian (40 acres)

Parcel 21: SW¼ NW¼, Section 34, Township 62N, Range 16W, 4th Principal Meridian (40 acres)

Parcel 22: SE¼ NW¼, Section 34, Township 62N, Range 16W, 4th Principal Meridian (40 acres)

Parcel 23: SW¼, NE¼, Section 34, Township 62N, Range 16W, 4th Principal Meridian (40 acres)

The above described lands contain a total of 1,146.17 acres, more or less, which are subject to all valid rights, reservations, rights-of-way, and easements of record.

This proclamation does not affect title to the land described above, nor does it affect any valid existing easements for public roads, highways, public utilities, railroads, and pipelines or any other valid easements or rights-of-way or reservations of record.

Dated: July 9, 2018.
John Tahsuda,
Principal Deputy Assistant Secretary—Indian Affairs, Exercising the Authority of the Assistant Secretary—Indian Affairs.

[FR Doc. 2018-16583 Filed 8-1-18; 8:45 am]

BILLING CODE 4337-15-P